DEPARTMENT OF ENERGY

Federal Energy Regulatory Commission

[Docket No. ER01-2542-000, et al.]

Xcel Energy Services Inc., et al.; Electric Rate and Corporate Regulation Filings

July 12, 2001.

Take notice that the following filings have been made with the Commission:

1. Xcel Energy Services Inc.

[Docket No. ER01-2542-000]

Take notice that on July 9, 2001, Xcel Energy Services Inc., on behalf of Public Service Company of Colorado (PSCo), submitted for filing an interconnection agreement between PSCo and Enron North America, as agent for Fountain Valley Power, L.L.C.

Comment date: July 30, 2001, in accordance with Standard Paragraph E at the end of this notice.

2. CalPeak Power-Border LLC

[Docket No. EG01-254-000]

Take notice that on July 9, 2001, CalPeak Power-Border LLC (Border) tendered for filing with the Federal Energy Regulatory Commission (Commission) an application for determination of exempt wholesale generator status pursuant to part 365 of the Commission's regulations.

Comment date: August 2, 2001, in accordance with Standard Paragraph E at the end of this notice. The Commission will limit its consideration of comments to those that concern the adequacy or accuracy of the application.

3. CalPeak Power-Vaca Dixon LLC

[Docket No. EG01-255-000]

Take notice that on July 9, 2001, CalPeak Power-Vaca Dixon LLC tendered for filing with the Federal Energy Regulatory Commission (Commission) an application for exempt wholesale generator status pursuant to Part 365 of the Commission's regulations.

Comment date: August 2, 2001, in accordance with Standard Paragraph E at the end of this notice. The Commission will limit its consideration of comments to those that concern the adequacy or accuracy of the application.

4. CalPeak Power-El Cajon LLC

[Docket No. EG01-256-000]

Take notice that on July 9, 2001, CalPeak Power—El Cajon LLC (El Cajon) filed with the Commission an application for determination of exempt wholesale generator status pursuant to Part 365 of the Commission's regulations.

Comment date: August 2, 2001, in accordance with Standard Paragraph E at the end of this notice. The Commission will limit its consideration of comments to those that concern the adequacy accuracy of the application.

5. CalPeak Power-Mission LLC

[Docket No. EG01-257-000]

Take notice that on July 9, 2001, CalPeak Power-Mission LLC tendered for filing with the Federal Energy Regulatory Commission (Commission) an application for determination of exempt wholesale generator status pursuant to Part 365 of the Commission's regulations.

Comment date: August 2, 2001, in accordance with Standard Paragraph E at the end of this notice. The Commission will limit its consideration of comments to those that concern the adequacy or accuracy of the application.

6. CalPeak Power-Enterprise LLC

[Docket No. EG01-258-000]

Take notice that on July 9, 2001, CalPeak Power-Enterprise LLC tendered for filing with the Federal Energy Regulatory Commission (Commission) an application for exempt wholesale generator status pursuant to Part 365 of the Commission's regulations.

Comment date: August 2, 2001, in accordance with Standard Paragraph E at the end of this notice. The Commission will limit its consideration of comments to those that concern the adequacy or accuracy of the application.

7. CalPeak Power-Panoche LLC

[Docket No. EG01-259-000]

Take notice that on July 9, 2001, CalPeak Power-Panoche LLC tendered for filing with the Federal Energy Regulatory Commission (Commission) an application for determination of exempt wholesale generator status pursuant to Part 365 of the Commission's regulations.

Comment date: August 2, 2001, in accordance with Standard Paragraph E at the end of this notice. The Commission will limit its consideration of comments to those that concern the adequacy or accuracy of the application.

8. CalPeak Power-Midway LLC

[Docket No. EG01-260-000]

Take notice that on July 9, 2001, CalPeak Power-Midway LLC tendered for filing with the Federal Energy Regulatory Commission (Commission) an application for determination of exempt wholesale generator status pursuant to Part 365 of the Commission's regulations.

Comment date: August 2, 2001, in accordance with Standard Paragraph E at the end of this notice. The Commission will limit its consideration of comments to those that concern the adequacy or accuracy of the application.

9. Central Maine Power Company

[Docket No. ER01-1851-001]

Please take notice that on July 6, 2001, Central Maine Power Company (CMP) tendered for filing the First Amendment to the Interconnection Agreement by and between CMP and Northeast Empire Limited Partnership #1, designated as CMP—FERC Electric Tariff, Fifth Revised, Volume No. 3, Service Agreement No. 129, and conformed to the requirements of Order 614.

Comment date: July 27, 2001, in accordance with Standard Paragraph E at the end of this notice.

10. New York Independent System Operator, Inc.

[Docket No. ER01-1942-001]

Take notice that on July 9, 2001, the New York Independent System Operator, Inc. (NYISO) submitted its compliance filing in the above-captioned proceeding. The NYISO has served a copy of this filing upon all parties that are included on the Commission's official service list in this proceeding.

Comment date: July 30, 2001, in accordance with Standard Paragraph E at the end of this notice.

11. Arizona Public Service Company

[Docket No. ER01-2538-000]

Take notice that on July 9, 2001, Arizona Public Service Company (APS) tendered for filing a revised Exhibits for Citizens Utilities Company (Citizens) applicable under the APS-FERC Rate Schedule No. 225.

Copies of this filing have been served on Citizens and the Arizona Corporation Commission.

Comment date: July 30, 2001, in accordance with Standard Paragraph E at the end of this notice.

12. Michigan Electric Transmission Co.

[Docket No. ER01-2539-000]

Take notice that on July 9, 2001, Michigan Electric Transmission Company (Michigan Transco) tendered for filing an executed transmission service agreement with Sebewaing Light & Water Department (Customer) pursuant to the Joint Open Access Transmission Service Tariff filed on February 22, 2001 by Michigan Transco and International Transmission Company (ITC). The agreement has an effective date of June 8, 2001.

Copies of the filed agreement were served upon the Michigan Public Service Commission, ITC, and the Customer.

Comment date: July 30, 2001, in accordance with Standard Paragraph E at the end of this notice.

13. Wisconsin Public Service Corporation

[Docket No. ER01-2540-000]

Take notice that on July 9, 2001, Wisconsin Public Service Corporation (WPSC) filed a notice of termination for its W-3 Partial Requirements Load Pattern Tariff, FERC Electric Tariff, Original Volume No. 3 (the W-3 Tariff). WPSC no longer has any customers under the W-3 Tariff. WPSC requests that the notice of termination become effective on September 7, 2001, sixty days after the date of this filing. WPSC has served this filing on the Public Service Commission of Wisconsin.

Comment date: July 30, 2001, in accordance with Standard Paragraph E at the end of this notice.

14. Northern Indiana Public Service Company

[Docket No. ER01-2541-000]

Take notice that on July 9, 2001, Northern Indiana Public Service Company (Northern Indiana) filed a generation interconnection agreement (Interconnection Agreement) with Whiting Clean Energy, Inc. (Whiting). Whiting owns and will operate a 550 MW gas-fired generation facility located in Whiting, Indiana, which is located within northern Indiana's Controlled Area. Northern Indiana has requested an effective date of July 9, 2001.

Copies of this filing have been sent to Whiting, the Indiana Utility Regulatory Commission, and the Indiana Office of Utility Consumer Counselor.

Comment date: July 30, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-17940 Filed 7-17-01; 8:45 am]

BILLING CODE 6717-01-P